DEPARTMENT OF VETERANS AFFAIRS

[OMB Control No. 2900-New (SAR)]

Agency Information Collection Activities (SAR Application) Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before July 14, 2008.

ADDRESSES: Submit written comments on the collection of information through www.Regulations.gov; or to VA's OMB Desk Officer, OMB Human Resources and Housing Branch, New Executive Office Building, Room 10235, Washington, DC 20503, (202) 395-7316. Please refer to “OMB Control No. 2900-New (SAR)” in any correspondence.

FOR FURTHER INFORMATION CONTACT: Denise McLamb, Records Management Service (005R1B), Department of Veterans Affairs, 810 Vermont Avenue, NW., Washington, DC 20420, (202) 461-7485, fax (202) 273-0443 or e-mail denise.mclamb@mail.va.gov. Please refer to “OMB Control No. 2900-New (SAR).”

SUPPLEMENTARY INFORMATION: Title: Servicer's Staff Appraisal Reviewer (SAR) Application, VA Form 26-0829.

OMB Control Number: 2900-New (SAR).

Type of Review: New collection.

Abstract: VA Form 26-0829 is completed by servicers to nominate employees for approval as Staff Appraisal Reviewer (SAR). Servicers SAR's will have the authority to review real estate appraisals and to issue liquidation notices of value on behalf of VA. VA will also use the data collected to track the location of SARs when there is a change in employment.

An agency may not conduct or sponsor, and a person is not required to respond to a collection of information unless it displays a currently valid OMB control number. The Federal Register Notice with a 60-day comment period soliciting comments on this collection of information was published on March 25, 2008 at page 15843.

Affected Public: Business or other for-profit.

Estimated Annual Burden: 45 hours.

Estimated Average Burden per Respondent: 5 minutes.

Frequency of Response: On occasion.

Estimated Number of Respondents: 537.

Dated: June 6, 2008.
By Direction of the Secretary.
Denise McLamb,
Program Analyst, Records Management Service.

[FR Doc. E8-13245 Filed 6-11-08; 8:45 am]

BILLING CODE 8320-01-P